DEPARTMENT OF ENERGY

Federal Energy Regulatory Commission

Combined Notice of Filings #1

Take notice that the Commission received the following electric corporate filings:

Docket Numbers: EC23-64-000.

Applicants: Porterhouse Wind (4) LLC.

Description: Application for Authorization Under Section 203 of the Federal Power Act of Porterhouse Wind (4) LLC.

Filed Date: 3/17/23.

Accession Number: 20230317-5174.

Comment Date: 5 p.m. ET 4/7/23.

Take notice that the Commission received the following exempt wholesale generator filings:

Docket Numbers: EG23-99-000.

Applicants: Newport Solar, LLC.

Description: Newport Solar, LLC submits Notice of Self-Certification of Exempt Wholesale Generator Status.

Filed Date: 3/17/23.

Accession Number: 20230317-5155.

Comment Date: 5 p.m. ET 4/7/23.

Docket Numbers: EG23-100-000.

Applicants: CED Peregrine Solar, LLC.

Description: CED Peregrine Solar, LLC submits Notice of Self-Certification of Exempt Wholesale Generator Status.

Filed Date: 3/17/23.

Accession Number: 20230317-5158.

Comment Date: 5 p.m. ET 4/7/23.

Docket Numbers: EG23-101-000.

Applicants: Waverly Solar, LLC.

Description: Waverly Solar, LLC submits Notice of Self-Certification of Exempt Wholesale Generator Status.

Filed Date: 3/20/23.

Accession Number: 20230320-5071.

Comment Date: 5 p.m. ET 4/10/23.

Take notice that the Commission received the following electric rate filings:

Docket Numbers: ER17-1981-002; ER22-2505-001; ER22-2827-002; ER17-1984-002; ER23-1004-000; ER22-2506-001; ER23-1005-000; ER17-1988-002.

Applicants: Patton Wind Farm, LLC, Vitol PA Wind Marketing LLC, Vitol Inc., MD Solar 2, LLC, Highland North LLC, Bluegrass Solar, LLC, Big Sky Wind, LLC, Big Savage, LLC.

Description: Supplement to January 31, 2023, Notice of Change in Status of Big Savage, LLC, et al.

Filed Date: 3/15/23.

Accession Number: 20230315-5225.

Comment Date: 5 p.m. ET 4/5/23.

Docket Numbers: ER20-1739-004.

Applicants: American Transmission Systems, Incorporated, PJM Interconnection, L.L.C.

Description: Compliance filing: American Transmission Systems, Incorporated submits tariff filing per 35: ATSI Order No. 864 Limited Compliance Filing in ER20-1739 to be effective 1/27/2020.

Filed Date: 3/20/23.

Accession Number: 20230320-5042.

Comment Date: 5 p.m. ET 4/10/23.

Docket Numbers: ER20-1951-004.

Applicants: Mid-Atlantic Interstate Transmission, LLC, PJM Interconnection, L.L.C.

Description: Compliance filing: Mid-Atlantic Interstate Transmission, LLC submits tariff filing per 35: MAIT Order No. 864 Limited Compliance Filing in ER20-1951 to be effective 1/27/2020.

Filed Date: 3/20/23.

Accession Number: 20230320-5050.

Comment Date: 5 p.m. ET 4/10/23.

Docket Numbers: ER22-2462-001.

Applicants: Alabama Power Company, Georgia Power Company, Mississippi Power Company.

Description: Compliance filing: Alabama Power Company submits tariff filing per 35: Compliance Filing in Response to Order on Compliance (OATT Attachment N) to be effective 7/23/2022.

Filed Date: 3/20/23.

Accession Number: 20230320-5088.

Comment Date: 5 p.m. ET 4/10/23.

Docket Numbers: ER23-1420-000.

Applicants: Union Energy Center, LLC.

Description: Union Energy Center, LLC submits Limited Waiver Request of Section 30.8.1 of Attachment X of NYISO OATT.

Filed Date: 3/16/23.

Accession Number: 20230316-5186.

Comment Date: 5 p.m. ET 4/6/23.

Docket Numbers: ER23-1421-000.

Applicants: Dominion Energy South Carolina, Inc.

Description: § 205(d) Rate Filing: Orangeburg DPU CIAC to be effective 5/20/2023.

Filed Date: 3/20/23.

Accession Number: 20230320-5017.

Comment Date: 5 p.m. ET 4/10/23.

Docket Numbers: ER23-1422-000.

Applicants: Southwest Power Pool, Inc.

Description: § 205(d) Rate Filing: Corn Belt Power Cooperative Formula Rate Revisions to be effective 6/1/2023.

Filed Date: 3/20/23.

Accession Number: 20230320-5022.

Comment Date: 5 p.m. ET 4/10/23.

Docket Numbers: ER23-1423-000.

Applicants: PJM Interconnection, L.L.C.

Description: § 205(d) Rate Filing: Original ISA, SA No. 6831; Queue No. AE2-176 to be effective 2/17/2023.

Filed Date: 3/20/23.

Accession Number: 20230320-5041.

Comment Date: 5 p.m. ET 4/10/23.

Docket Numbers: ER23-1424-000.

Applicants: AEP Texas Inc.

Description: § 205(d) Rate Filing: AEPTX-Southwest Texas Electric Cooperative Amended TSA to be effective 2/28/2023.

Filed Date: 3/20/23.

Accession Number: 20230320-5056.

Comment Date: 5 p.m. ET 4/10/23.

Docket Numbers: ER23-1425-000.

Applicants: PJM Interconnection, L.L.C.

Description: § 205(d) Rate Filing: Amendment to IISA, Service Agreement No. 6573; Queue No. AF2-083 to be effective 5/19/2023.

Filed Date: 3/20/23.

Accession Number: 20230320-5089.

Comment Date: 5 p.m. ET 4/10/23.

Docket Numbers: ER23-1426-000.

Applicants: Orange and Rockland Utilities, Inc.

Description: § 205(d) Rate Filing: O&R Undergrounding 3-2023 to be effective 4/1/2023.

Filed Date: 3/20/23.

Accession Number: 20230320-5114.

Comment Date: 5 p.m. ET 4/10/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2023.
Debbie-Anne A. Reese,
Deputy Secretary.

[FR Doc. 2023-06151 Filed 3-23-23; 8:45 am]

BILLING CODE 6717-01-P